DEPARTMENT OF COMMERCE

Economic Development Administration

Notice of Petitions by Producing Firms for Determination of Eligibility To Apply for Trade Adjustment Assistance

AGENCY: Economic Development Administration, Commerce.

ACTION: To Give Firms an Opportunity to Comment.

Petitions have been accepted for filing on the dates indicated from the firms listed below.

List of Petition Action By Trade Adjustment Assistance for Period 01/20/2000-02/17/2000
Firm name | Address | Date petition accepted | Product
Hampton Research & Engineering, Inc | 2670 West I-40 Oklahoma City, OK 73108 | 24-Jan-2000 | Dental equipment and supplies.
Pennsylvania Machine Work, Inc | 100 Bethel Road Aston, PA 19014 | 24-Jan-2000 | Forged steel and alloy industrial pipe fittings.
Water Color Graphics, Inc | 252 Bethlehem Pike Colmar, PA 18915 | 02-Feb-2000 | Water based inks.
Thompson Industries, Inc | 4260 Arkansas Avenue, S. Russellville, AR 72802 | 02-Feb-2000 | Pressure treated lumber, posts and poles and ties and guardrails.
Dares Corporation | 220 East Hersey St. Ashland, OR 97520 | 03-Feb-2000 | Sharpening machines and grinding wheels.
Osprey Packs, Inc | 115 Progress Circle Cortez, CO 81321 | 03-Feb-2000 | Backpacks of man-made fiber.
Pallets, Inc | 99 1/2 East Street, Fort Edward, NY 12828 | 04-Feb-2000 | Wood pallets used to transport goods.
Rockford Powertrain, Inc | 1200 Windsor Road Rockford, IL 61111 | 04-Feb-2000 | Torque converters, clutches and universal joints.
Dixie Packaging, Inc | 915 Tanner Road Taylors, SC 29602 | 16-Feb-2000 | Plastic bags made from polypropylene film.
Splash Marine, Inc | 135 NE 38th Terrace Oklahoma City, OK 73105 | 16-Feb-2000 | Boats of reinforced plastic.
K & F Electronics, Inc | 33041 Groesbeck Fraser, MI 48026 | 16-Feb-2000 | Printed circuit boards.
McElroy Company, Inc | 411 7th Street Snyder, OK 73566 | 16-Feb-2000 | Trailers for agricultural use.
Twinplex Manufacturing Co | 840 Lively Boulevard Wood Dale, IL 60191 | 17-Feb-2000 | Tubes and shells, drawn of alloy steel for consumer batteries, automotive, appliances, electronics, military ammunition and industrial applications.
Watangaa Inc., d.b.a. Coyote Found Candles | 31 Workman Street, Port Townsend, WA 98368 | 17-Feb-2000 | Candles.

The petitions were submitted pursuant to Section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm.

Any party having a substantial interest in the proceedings may request a public hearing on the matter. A request for a hearing must be received by Trade Adjustment Assistance, Room 7315, Economic Development Administration, U.S. Department of Commerce, Washington, DC 20230, no later than the close of business of the tenth calendar day following the publication of this notice.

The Catalog of Federal Domestic Assistance official program number and title of the program under which these petitions are submitted is 11.313, Trade Adjustment Assistance.

Dated: February 17, 2000.
Anthony J. Meyer,
Coordinator, Trade Adjustment and Technical Assistance.

[FR Doc. 00-4719 Filed 2-28-00; 8:45 am]

BILLING CODE 3510-24-P